DEPARTMENT OF TRANSPORTATION

Federal Aviation Administration

Forty-Ninth Meeting, RTCA Special Committee 186: Automatic Dependent Surveillance-Broadcast (ADS-B)

AGENCY: Federal Aviation Administration (FAA), DOT.

ACTION: Notice of RTCA Special Committee 186: Automatic Dependent Surveillance-Broadcast (ADS-B) meeting.

SUMMARY: The FAA is issuing this notice to advise the public of a meeting of RTCA Special Committee 186: Automatic Dependent Surveillance-Broadcast (ADS-B).

DATES: The meeting will be held October 5-9, 2009, at 8 a.m. on October 9th and 9 a.m. on the other days.

ADDRESSES: RTCA Conference Rooms at 1828 L Street, NW., Suite 805, Washington, DC 20036.

FOR FURTHER INFORMATION CONTACT: (1) RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186: Automatic Dependent Surveillance-Broadcast (ADS-B) meeting. The agenda will include:

Specific Working Group Sessions

Monday, October 5, 2009

• RTCA—All Day, WG-3—1090 MHz MOPS, MacIntosh-NBAA Room & Hilton-ATA Room.

Tuesday, October 6, 2009

• RTCA—All Day, WG-1—ATSA SURF 1A, Colson Board Room.

• RTCA—All Day, WG-3—1090 MHz MOPS, MacIntosh-NBAA Room & Hilton-ATA Room.

Wednesday, October 7, 2009

• RTCA—All Day, WG-1—ATSA SURF 1A, Colson Board Room.

• RTCA—All Day, Joint WG-3/WG-5, 1090 MHz MOPS and UAT MOPS, MacIntosh-NBAA Room & Hilton-ATA Room.

Thursday, October 8, 2009

• RTCA—All Day, WG-1—ATSA SURF 1A, Colson Board Room.

• RTCA—All Day, Joint WG-3/WG-5, 1090 MHz MOPS and UAT MOPS, MacIntosh-NBAA Room & Hilton-ATA Room.

Friday, October 9, 2009

Plenary Session/Joint RTCA SC-186/EUROCAE WG-51.

RTCA—Washington, DC—MacIntosh-NBAA Room & Hilton-ATA Room and EUROCAE.

Starting at 8 a.m. at RTCA and 2 p.m. in Europe. (WebEx and Phone Bridge information to be provided).

• Opening Plenary (Chairman's Introductory Remarks, Review of Meeting Agenda).

• Review/Approval of the Forty-Eighth Meeting Summary, RTCA Paper No. 171-09/SC186-283.

• Consider for Approval—Revised Document—DO-260A—Minimum Operational Performance Standards for 1090 MHz Extended Squitter Automatic Dependent Surveillance-Broadcast (ADS-B) and Traffic Information Services-Broadcast (TIS-B), RTCA Paper No. 188-09/SC186-284. Consolidated FRAC Comments—RTCA Paper No. 189-09/SC-186-285.

• FAA Surveillance and Broadcast Services (SBS) Program—Status.

• Review of EUROCAE WG-51 Activities.

• Date, Place and Time of Next Meeting.

• Working Group Reports.

• WG-1—Operations and Implementation.

• WG-2—TIS-B MASPS.

• WG-3—1090 MHz MOPS.

• WG-4—Application Technical Requirements.

• WG-5—UAT MOPS.

• RFG—Requirements Focus Group.

• Consider for Approval—Revised Document—DO-282A—Minimum Operational Performance Standards for Universal Access Transceiver (UAT) Automatic Dependent Surveillance-Broadcast, RTCA Paper No. 190-09/SC-286. Consolidated FRAC Comments—RTCA Paper No. 191-09/SC186-287.

• ADS-B ITP Coordination with SC-214 for Data Link Requirements by December 2009.

• RFG Interval Management (IM) Application—Discussion—Possible Fast Tracking.

• New Business.

• Other Business.

• Review Action Items/Work Programs.

• Adjourn Plenary.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 15, 2009.
Francisco Estrada C.,
RTCA Advisory Committee.

[FR Doc. E9-22841 Filed 9-21-09; 8:45 am]

BILLING CODE 4910-13-P